ENVIRONMENTAL PROTECTION AGENCY

40 CFR Part 52

[CA 249-0305; FRL-7102-3]

Partial Removal of Direct Final Rule Revising the California State Implementation Plan, Bay Area Air Quality Management District

AGENCY: Environmental Protection Agency (EPA).

ACTION: Partial removal of direct final rule.

SUMMARY: On September 12, 2001 (65 FR 47392), EPA published a direct final approval of a revision to the California State Implementation Plan (SIP) which pertained to the Bay Area Air Quality Management District (BAAQMD) Rule 8-51, Adhesive and Sealant Products. The direct final action was published without prior proposal because EPA anticipated no adverse comment. EPA stated in the direct final rule that if EPA received adverse comment by October 12, 2001, EPA would publish a timely removal in the Federal Register. EPA subsequently received adverse comments on the direct final rule. Therefore, EPA is removing the direct final approval. EPA will address the comments in a subsequent final action based on the parallel proposal also published on September 12, 2001 (65 FR 47419). The direct final approval of the South Coast Air Quality Management District Rule 443.1, Labeling of Materials Containing Organic Solvent, also published on September 12, 2001 is not affected by this removal and is incorporated into the SIP as of the effective date of the September 12, 2001 direct final action.

EFFECTIVE DATE: November 15, 2001.

FOR FURTHER INFORMATION CONTACT: Yvonne Fong, Rulemaking Office (Air-4), U.S. Environmental Protection Agency, Region IX, (415) 744-1199.

List of Subjects in 40 CFR Part 52

Environmental protection, Air pollution control, Incorporation by reference, Intergovernmental relations, Ozone, Reporting and recordkeeping requirements, Volatile organic compounds.

Dated: November 1, 2001.
Wayne Nastri,
Regional Administrator, Region IX.

Part 52, chapter I, title 40 of the Code of Federal Regulations is amended as follows:

PART 52—[AMENDED]

Subpart F—California

1. The authority citation for Part 52 continues to read as follows:

Authority: 42 U.S.C. 7401 et seq.

§ 52.220 [Amended]

2. Section 52.220 is amended by removing paragraph (c)(282).

[FR Doc. 01-28340 Filed 11-14-01; 8:45 am]

BILLING CODE 6560-50-P